DEPARTMENT OF EDUCATION

Submission for OMB Review; Comment Request

AGENCY: Department of Education.

ACTION: Correction notice.

SUMMARY: On April 13, 2011, the Department of Education published a 30-day comment period notice in the Federal Register (Page 20635, Column 3) seeking public comment for an information collection entitled, “Study of the Distribution of Teacher Effectiveness.” The title is hereby corrected to “Teacher Quality Distribution Study.” The Director, Information Collection Clearance Division, Information Management and Privacy Services, Office of Management, hereby issues a correction notice as required by the Paperwork Reduction Act of 1995.

Dated: April 14, 2011.
Darrin A. King,
Director, Information Collection Clearance Division, Information Management and Privacy Services, Office of Management.

[FR Doc. 2011-9452 Filed 4-18-11; 8:45 am]

BILLING CODE P